DEPARTMENT OF TRANSPORTATION

Federal Railroad Administration

Petitions for Waivers of Compliance

In accordance with Title 49 Code of Federal Regulations (CFR) Section 211.41, and 49 U.S.C. 20103, notice is hereby given that the Federal Railroad Administration (FRA) has received a request for waiver of compliance with certain requirements of the Federal railroad safety regulations. The individual petition is described below, including the party seeking relief, the regulatory provisions involved, and the nature of the relief being sought.

Lackawanna County Railroad Authority (“LCRA”)

[FRA Waiver Petition No. FRA-2000-7275]

The Lackawanna County Railroad Authority (“LCRA”), and Delaware-Lackawanna Railroad seeks a permanent waiver of compliance from certain CFR parts of Title 49, specifically: part 221, Rear End Marking Device—Passenger, Commuter and Freight Trains; part 223, Safety Glazing Standards—Locomotives, Passenger Cars and Cabooses; part 231, Railroad Safety Appliance Standards; part 238, Passenger Equipment Safety Standards; and part 239, Passenger Train Emergency Preparedness.

LCRA seeks approval of shared track usage and waiver of certain FRA regulations involving historic light rail trolley operations on the same track that will be shared with freight trains. FRA has jurisdiction over the portion of the LCRA's “Lackawanna County Electric Trolley Station & Museum” historic light rail operation that it is connected to the general railroad system of transportation. Specifically, the historic trolley intends to make use of 1.2 miles of the Lackawanna County Railroad Authority's and National Park Service's “Brady Line” and Scranton Yard in Scranton Pennsylvania. Freight and historic trolley operations will be temporally separated on this portion of track. See Statement of Agency Policy Concerning Jurisdiction Over the Safety of Railroad Passenger Operations and Waivers Related to Shared Use of the Tracks of the General Railroad System by Light Rail and Conventional Equipment at 65 FR 42529 (July 10, 2000). See also Joint Statement of Agency Policy Concerning Shared Use of the Tracks of the General Railroad System by Conventional Railroads and Light Rail Transit Systems at 65 FR 42626 (July 10, 2000).

Since FRA has not yet concluded its investigation of the LCRA historic trolley, the agency takes no position at this time on the merits of LCRA's stated justifications.

All communications concerning these proceedings should identify the appropriate docket number (Docket Number FRA 2000-7275) and must be submitted to the DOT Docket Management Facility, Room PL-401 (Plaza level) 400 Seventh Street, S.W., Washington, D.C. 20590. All documents in the public docket, including LCRA's detailed waiver request, are also available for inspection and copying on the Internet at the docket facility's Web site at http://dms.dot.gov. Communications received within 45 days of the date of this notice will be considered by FRA before final action is taken. Comments received after that date will be considered as far as practicable. All written communications concerning this proceeding are available for examination during regular business hours (9 a.m.—5 p.m.) at the above facility.

Issued in Washington, D.C. on August 29, 2000.
Grady C. Cothen, Jr.,
Deputy Associate Administrator for Safety Standards and Program Development.

[FR Doc. 00-22533 Filed 8-31-00; 8:45 am]

BILLING CODE 4910-06-U